DEPARTMENT OF THE INTERIOR

Bureau of Indian Affairs

[156A2100DD.AADD001000]

Advisory Board for Exceptional Children Meeting

AGENCY: Bureau of Indian Affairs, Interior.

ACTION: Notice of meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Thursday, March 26, 2015, from 8:30 a.m. to 4:30 p.m. and Friday, March 27, 2015, from 8:30 a.m. to 4:30 p.m. Mountain Time.

ADDRESSES: The meeting and orientation will be held at the Manuel Lujan, Jr. Indian Affairs Building, 1011 Indian School Road NW., Albuquerque, New Mexico 87104; telephone number (505) 563-5383.

FOR FURTHER INFORMATION CONTACT: Ms. Sue Bement, Designated Federal Official, Bureau of Indian Education, Albuquerque Service Center, Division of Performance and Accountability, 1011 Indian School Road NW., Suite 332, Albuquerque, New Mexico 87104; telephone number (505) 563-5274.

SUPPLEMENTARY INFORMATION: In accordance with the Federal Advisory Committee Act (5 U.S.C. app.), the BIE is announcing that the Advisory Board will hold its next meeting in Albuquerque, New Mexico. The Advisory Board was established under the Individuals with Disabilities Education Act of 2004 (20 U.S.C. 1400 et seq.) to advise the Secretary of the Interior, through the Assistant Secretary-Indian Affairs, on the needs of Indian children with disabilities. The meetings are open to the public.

The following items will be on the agenda:

• Introduction of Advisory Board members;

• Appointment of Advisory Board Chair and Vice Chair;

• Report from Ms. Gloria Yepa, Supervisory Education Specialist, BIE, Division of Performance and Accountability;

• Report from BIE Director's Office;

• Report from Dr. Jeffrey Hamley, Associate Deputy Director of the Division of Performance and Accountability;

• Stakeholder input on BIE Annual Performance Report and State Systemic Improvement Plan;

• Public Comment (via conference call, March 26, 2015, meeting only *); and

• BIE Advisory Board-Advice and Recommendations.

* During the March 26, 2015 meeting, time has been set aside for public comment via conference call from 1:30-2:00 p.m. Mountain Time. The call-in information is: Conference Number 1-888-417-0376, Passcode 1509140.

Dated: January 6, 2015.
Kevin K. Washburn,
Assistant Secretary—Indian Affairs.

[FR Doc. 2015-00549 Filed 1-14-15; 8:45 am]

BILLING CODE 4310-6W-P